DEPARTMENT OF COMMERCE

International Trade Administration

[A-351-838]

Certain Frozen Warmwater Shrimp from Brazil: Notice of Rescission of Antidumping Duty Administrative Review

AGENCY: Import Administration, International Trade Administration, Department of Commerce.

EFFECTIVE DATE: June 17, 2009

FOR FURTHER INFORMATION CONTACT: Kate Johnson or Rebecca Trainor, AD/CVD Operations, Office 2, Import Administration, International Trade Administration, U.S. Department of Commerce, 14th Street and Constitution Avenue, NW, Washington, DC 20230; telephone: (202) 482-4929 or (202) 482-4007, respectively.

SUPPLEMENTARY INFORMATION:

Background

On February 4, 2009, the Department of Commerce (the Department) published in the Federal Register a notice of “Opportunity to Request Administrative Review” of the antidumping duty order on certain frozen warmwater shrimp from Brazil for the period of review (POR) February 1, 2008, through January 31, 2009. See Antidumping or Countervailing Duty Order, Finding, or Suspended Investigation; Opportunity to Request Administrative Review, 74 FR 6013 (February 4, 2009). The Department received a timely request from the Ad Hoc Shrimp Trade Action Committee (Domestic Producers) in accordance with 19 CFR 351.213(b), for an administrative review of the antidumping duty order on certain frozen warmwater shrimp from Brazil. On April 7, 2009, the Department published a notice of initiation of an administrative review of the antidumping duty order on certain frozen warmwater shrimp from Brazil with respect to 43 companies. See Certain Frozen Warmwater Shrimp from Brazil, India and Thailand: Notice of Initiation of Administrative Reviews, 74 FR 15699 (April 7, 2009) (Initiation Notice).

The Department stated in its initiation of this review that it intended to rely on U.S. Customs and Border Protection (CBP) data to select respondents. See Initiation Notice. However, our review of the CBP database showed no entries of certain frozen warmwater shrimp originating in Brazil, subject to AD/CVD duties, during the period February 1, 2008, to January 31, 2009. See April 9, 2009, Memorandum to the File from Kate Johnson entitled “Release of POR Entry Data from CBP.” We released the results of our CBP data query to interested parties and invited them to comment on the CBP data and respondent selection. On May 1, 2009, the Domestic Producers submitted comments, which we addressed in the June 10, 2009, Memorandum to James Maeder, Director, Office 2, AD/CVD Operations from Kate Johnson and Rebecca Trainor, Senior Case Analysts, Office 2, AD/CVD Operations, entitled “Intent to Rescind Administrative Review.”

On May 8, 2009, we sent a “No Shipments Inquiry” to CBP to confirm that there were no shipments or entries of frozen warmwater shrimp from Brazil during the POR. We received no information from CBP to contradict the results of our data query that there were no shipments or entries of subject merchandise to the United States during the POR.

Rescission of Review

Section 351.213(d)(3) of the Department's regulations stipulates that the Secretary may rescind an administrative review if there were no entries, exports, or sales of the subject merchandise during the POR. As there were no entries, exports, or sales of the subject merchandise during the POR, we are rescinding this review of the antidumping duty order on certain frozen warmwater shrimp from Brazil pursuant to 19 CFR 351.213(d)(3). We intend to issue assessment instructions to CBP 15 days after the date of publication of this notice of rescission of administrative review.

This notice is published in accordance with section 751 of the Tariff Act of 1930, as amended, and 19 CFR 351.213(d)(4).

Dated: June 10, 2009.
John M. Andersen,
Acting Deputy Assistant Secretary for Antidumping and Countervailing Duty Operations.

[FR Doc. E9-14244 Filed 6-16-09; 8:45 am]

BILLING CODE 3510-DS-S